DEPARTMENT OF HOMELAND SECURITY

[Docket No. DHS-2012-0012]

National Infrastructure Advisory Council

AGENCY: National Protection and Programs Directorate, DHS.

ACTION: Committee Management; Notice of an open Federal Advisory Committee meeting.

SUMMARY: The National Infrastructure Advisory Council (NIAC) will meet on Tuesday, April 17, 2012, 1310 N. Courthouse Road, Suite 300, Virginia Room, Arlington, VA 22201. The meeting will be open to the public.

DATES: The NIAC will meet Tuesday, April 17, 2012, from 1:30 p.m. to 4:30 p.m. The meeting may close early if the committee has completed its business. For additional information, please consult the NIAC Web site, www.dhs.gov/NIAC, or contact the NIAC Secretariat by phone at (703) 235-2888 or by email at NIAC@dhs.gov.

ADDRESSES: 1310 N. Courthouse Road, Suite 300, Virginia Room, Arlington, VA 22201.

While this meeting is open to the public, participation in the NIAC deliberations is limited to committee members and appropriate Federal Government officials. Discussions may include committee members, appropriate Federal Government officials, and other invited persons attending the meeting to provide information that may be of interest to the Council.

Immediately following the committee member deliberation and discussion period, there will be a limited time period for public comment. Comments should be limited to meeting agenda items and previous NIAC studies. All previous NIAC studies can be located at www.dhs.gov/NIAC. Relevant public comments may be submitted in writing or presented in person for the Council to consider. Comments should be limited to the issues and topics addressed by the Council. In-person presentations will be limited to three minutes per speaker, with no more than 30 minutes for all speakers. Parties interested in making in-person comments should register no fewer than 15 minutes prior to the beginning of the meeting at the meeting location. Oral comments will be permitted based upon the order of registration; all registrants may not be able to speak if time does not permit. Written comments may be sent to Nancy Wong, Department of Homeland Security, National Protection and Programs Directorate, 245 Murray Lane SW., Mail Stop 0607, Arlington, VA 20598-0607. It is recommended that written comments be received by Nancy Wong no later than April 6, 2012, identified by Federal Register Docket Number DHS-2012-0012 for consideration by the NIAC members prior to the meeting. Written comments provided after April 6, 2012, will still be accepted and reviewed by the members. Comments may also be submitted by any one of the following methods:

• Federal eRulemaking Portal: www.regulations.gov. Follow the instructions for submitting written comments.

• Email: NIAC@dhs.gov. Include the docket number in the subject line of the message.

• Fax: 703-603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the NIAC, go to www.regulations.gov.

FOR FURTHER INFORMATION CONTACT: Nancy Wong, National Infrastructure Advisory Council Designated Federal Officer, Department of Homeland Security, telephone (703) 235-2888.

SUPPLEMENTARY INFORMATION: Notice of this meeting is given under the Federal Advisory Committee Act, 5 U.S.C. App. (Pub. L. 92-463). The NIAC shall provide the President through the Secretary of Homeland Security with advice on the security of the critical infrastructure sectors and their information systems.

The NIAC will meet to address issues relevant to the protection of critical infrastructure as directed by the President. At this meeting, the committee will receive a presentation from the NIAC Working Group regarding the scope of the next phase of the Working Group's critical infrastructure resilience study, which incorporates a regional perspective.

Meeting Agenda

I. Opening of Meeting

II. Roll Call of Members

III. Opening Remarks and Introductions

IV. Approval of January 10, 2012, Minutes

V. NIAC Deliberation and Recommendation on Scope of Next Study on Critical Infrastructure Resilience incorporating a regional perspective

VI. Public Comment: Discussion Limited to Meeting Agenda Items and Previous NIAC Studies

VII. Closing Remarks

Information on Services for Individuals With Disabilities

For information on facilities or services for individuals with disabilities or to request special assistance at the meeting, contact the NIAC Secretariat at (703) 235-2888 as soon as possible.

Dated: March 26, 2012.
Nancy J. Wong,
Designated Federal Officer for the NIAC.

[FR Doc. 2012-7695 Filed 3-29-12; 8:45 am]

BILLING CODE 9110-9-P